DEPARTMENT OF TRANSPORTATION

Federal Aviation Administration

[FAA Docket number: FAA-2023-1966]

NextGen Advisory Committee; Notice of Public Meeting

AGENCY: Federal Aviation Administration (FAA), Department of Transportation.

ACTION: Notice of public meeting.

SUMMARY: This notice announces a meeting of the NextGen Advisory Committee (NAC).

DATES: The date and time of the meeting is October 4, 2023, from 12 p.m.-4:30 p.m. eastern time. If you wish to attend the meeting virtually, you must submit a request by September 26, 2023. If you need to request accommodations for a disability, you must submit the request by September 26, 2023. If you wish to make a public statement during the meeting, you must submit a written copy of your remarks by September 26, 2023. For NAC member review prior to the meeting, you must submit your written statement no later than September 26, 2023.

ADDRESSES: The meeting location is at the Federal Aviation Administration, 800 Independence Avenue SW, Washington, DC 20591, with a virtual option. The FAA will post virtual meeting information to the NAC internet website at least one week in advance of the meeting. Information on the NAC, including copies of previous meeting minutes, is available on the NAC internet website at: https://www.faa.gov/about/office_org/headquarters_offices/ang/nac/.

Members of the public who wish to observe the meeting virtually or in person must send the required information listed in the SUPPLEMENTARY INFORMATION section to 9-AWA-ANG-NACRegistration@faa.gov.

FOR FURTHER INFORMATION CONTACT: Kimberly Noonan, NAC Coordinator, U.S. Department of Transportation, at Kimberly.Noonan@faa.gov or 202-267-3760. Submit requests or questions not regarding attendance registration to the person listed in this section.

SUPPLEMENTARY INFORMATION:

I. Background

The Secretary of Transportation established the NAC under agency authority in accordance with the provisions of the Federal Advisory Committee Act (FACA), as amended, Public Law 92-463, 5 U.S.C. app. 2, to provide independent advice and recommendations to the FAA and to respond to specific taskings received directly from the FAA. The NAC recommends consensus-driven advice relating to Air Traffic Management System modernization for FAA consideration.

II. Agenda

At the meeting, the agenda will cover the following topics:

• NAC Chair's Report

• FAA Report

• NAC Subcommittee Chair's Report

○ Risk and Mitigations update for the following focus areas: Data Communications, Performance Based Navigation, Surface and Data Sharing, and Northeast Corridor

○ Status Update on NAC Tasking 23-1: National Airspace System (NAS) Airspace Efficiencies

• NAC Chair Closing Comments

The FAA will post the detailed agenda on the NAC internet website at least one week in advance of the meeting.

III. Public Participation

The meeting is open to the public. Members of the public who wish to attend are asked to register via email by submitting their full legal name, country of citizenship, contact information (telephone number and email address), and name of their industry association or applicable affiliation, and if they would like to attend the meeting in-person or virtually. Please email this information to the email address listed in the ADDRESSES section. For foreign national in-person attendees, please also provide surname, given name, country of birth, country of citizenship, date of birth, title or position, and passport or diplomatic ID# and its expiration date. The FAA will confirm registration and provide the virtual meeting information, including the teleconference call-in number and passcode, to those registrants who requested to attend virtually. Callers are responsible for paying associated long-distance charges (if any).

Note: Only NAC Members, NAC working group members, FAA staff who are providing briefings, and members of the public who registered and the FAA selected to make a public statement will have the ability to speak. All other attendees will be able to listen only.

The U.S. Department of Transportation is committed to providing equal access to this meeting for all participants. If you need alternative formats or services because of a disability, please contact the person listed in the FOR FURTHER INFORMATION CONTACT section.

The agenda allows a maximum of six minutes for oral comments from members of the public joining the meeting. To accommodate as many speakers as possible, each commenter may have limited speaking time. Individuals wishing to reserve speaking time during the meeting must submit a request at the time of registration, along with the proposed speaker's name, address, organizational affiliation, and a written copy of the oral statement. If the number of registrants requesting to make oral statements is greater than the meeting allows, the FAA will select speakers in the order the FAA receives the requests. Speakers are required to submit a copy of their prepared remarks for inclusion in the meeting records and for circulation to NAC members to the person listed under the heading FOR FURTHER INFORMATION CONTACT. The meeting record will include all prepared remarks submitted on time.

Members of the public may submit written statements for inclusion in the meeting records and circulation to the NAC members. Members of the public must submit written statements to the person listed under the heading FOR FURTHER INFORMATION CONTACT. NAC members may not have time to review comments received after the due date listed in the DATES section prior to the meeting. Any member of the public may present a written statement to the committee at any time.

Signed in Washington, DC.
Kimberly Noonan,
Manager, Office of Stakeholder Collaboration, Management Services Office, ANG-A, Office of the Assistant Administrator for NextGen, Federal Aviation Administration.

[FR Doc. 2023-20209 Filed 9-18-23; 8:45 am]

BILLING CODE 4910-13-P